DEPARTMENT OF DEFENSE

Department of the Air Force

32 CFR Chapter VII

[Docket No: USAF-2021-HQ-0001]

RIN 0701-AA94

Appointment to the United States Air Force Academy; Correction

AGENCY: Department of the Air Force, Department of Defense.

ACTION: Final rule; correction.

SUMMARY: Department of the Air Force (DAF) is correcting a final rule that appeared in the Federal Register on December 17, 2021, Appointment to the Air Force Academy. This document corrects the RIN number from 0701-AA81 to 0701-AA94.

DATES: This correction is effective February 25, 2022.

FOR FURTHER INFORMATION CONTACT: Adriane S. Paris, Department of the Air Force Federal Register Office, (703) 614-8500.

SUPPLEMENTARY INFORMATION: In FR Doc. 2021-27304, appearing on page 71570 in the Federal Register of Friday, December 17, 2021, in the first column, the RIN is corrected to read “0701-AA94.”

Adriane Paris,
Air Force Federal Register Liaison Officer.

[FR Doc. 2022-03461 Filed 2-24-22; 8:45 am]

BILLING CODE 5001-05-P